ENVIRONMENTAL PROTECTION AGENCY

40 CFR Part 63

[EPA-HQ-OAR-2009-0234; EPA-HQ-OAR-2011-0044, FRL 9710-1]

RIN 2060-AR62

National Emission Standards for Hazardous Air Pollutants From Coal- and Oil-Fired Electric Utility Steam Generating Units and Standards of Performance for Fossil-Fuel-Fired Electric Utility, Industrial-Commercial-Institutional, and Small Industrial-Commercial-Institutional Steam Generating Units: Notice of Partial Stay

AGENCY: Environmental Protection Agency (EPA).

ACTION: Partial stay of effectiveness of final rule.

SUMMARY: This action stays the effectiveness of national new source emission standards for hazardous air pollutants from coal- and oil-fired electric utility steam generating units issued pursuant to Clean Air Act section 112 that were published in the Federal Register on February 16, 2012 (77 FR 9304).

DATES: The effective date of 40 CFR 63.9984(a), 63.10005(g), 63.10030(c), Table 1 to subpart UUUUU of 40 CFR part 63, and row 2 of Table 3 to subpart UUUUU of 40 CFR part 63, published in the Federal Register on February 16, 2012 (77 FR 9304), is stayed until November 2, 2012.

FOR FURTHER INFORMATION CONTACT: Mr. William Maxwell, Energy Strategies Group, Sector Policies and Programs Division, (D243-01), Office of Air Quality Planning and Standards, U.S. Environmental Protection Agency, Research Triangle Park, North Carolina 27711; Telephone number: (919) 541-5430; Fax number (919) 541-5450; Email address: maxwell.bill@epa.gov.

SUPPLEMENTARY INFORMATION:

I. Background

On February 16, 2012, the EPA issued the National Emission Standards for Hazardous Air Pollutants from Coal- and Oil-fired Electric Utility Steam Generating Units and Standards of Performance for Fossil-Fuel-Fired Electric Utility, Industrial-Commercial-Institutional, and Small Industrial-Commercial-Institutional Steam Generating Units, generally referred to as the mercury and air toxics standards (MATS Rule), which established emissions standards for new and existing coal- and oil-fired electric utility steam generating units. The EPA received petitions, pursuant to section 307(d)(7)(B) of the Clean Air Act, from a number of interested parties requesting reconsideration of certain issues in the rule. On July 20, 2012, the EPA issued a letter, stating its intent to grant the petitions for reconsideration on certain new source issues related to the emission standards issued under Clean Air Act section 112, including measurement issues related to mercury and the data set to which the variability calculation was applied when establishing the new source standards for particulate matter and hydrochloric acid.

The Clean Air Act authorizes the EPA to stay the effectiveness of a rule if the Administrator has convened a proceeding to reconsider the rule. Under section 307(d)(7)(B) of the Act, “The effectiveness of the rule may be stayed during * * * reconsideration * * * by the Administrator or the court for a period not to exceed three months.” 42 U.S.C.7607(d)(7)(B). In its letter granting the petitions for reconsideration on certain issues relating to the Clean Air Act section 112 new source standards, the EPA stated that it intended to exercise its authority under section 307(d) to stay the effectiveness of those new source standards for 3 months.

II. Issuance of a Partial Stay Relating to Clean Air Act Section 112(d) New Source Standards

Pursuant to section 307(d)(7)(B) of the Clean Air Act, the EPA hereby stays the effectiveness of 40 CFR 63.9984(a), 63.10005(g), 63.10030(c), Table 1 in subpart UUUUU of 40 CFR part 63, and row 2 of Table 3 in subpart UUUUU of 40 CFR part 63 for 3 months. Thus, by this action, we are staying the effectiveness of these provisions of the rule, published in the Federal Register on February 16, 2012 (77 FR 9304). Accordingly, this action also stays the effectiveness of any monitoring, recordkeeping, and reporting requirements related to the section 112(d) new source standards. This stay does not apply to any other provisions of the rule.

This stay of effectiveness will remain in place until November 2, 2012.

List of Subjects in 40 CFR Part 63

Environmental protection, Administrative practice and procedure, Air pollution control, Hazardous substances, Intergovernmental relations, Reporting and recordkeeping requirements.

Dated: July 27, 2012.
Lisa P. Jackson,
Administrator.

[FR Doc. 2012-18871 Filed 8-1-12; 8:45 am]

BILLING CODE 6560-50-P